DEPARTMENT OF JUSTICE

Notice of Lodging of Consent Decree Under The Clean Air Act

Notice is hereby given that on September 12, 2011, a proposed Consent Decree in United States et al. v. J.L. French LLC et al., Civil Action No. 2:11-CV-00860, was lodged with the United States District Court for the Eastern District of Wisconsin.

The Consent Decree would resolve claims for injunctive relief and the assessment of civil penalties asserted by the United States and the Commonwealth of Kentucky (collectively, “Plaintiffs”) against J.L. French LLC and a related corporate entity Nelson Metal Products LLC (collectively, “Defendants”) pursuant to Sections 113(b) and 304(a)(1) of the Clean Air Act, 42 U.S.C. 7413(b) and 7604(a)(1).

Defendants process aluminum scrap and dross to produce various secondary aluminum products, a process that results in emissions of regulated air pollutants, including dioxins and furans, hydrogen chloride, particulate matter, and hydrocarbons. The Plaintiffs' complaint, filed concurrently with the Consent Decree, alleges that Defendants violated Section 112 of the Clean Air Act, 42 U.S.C. 7412; the National Emission Standards for Hazardous Air Pollutants (“NESHAP”) for Secondary Aluminum Production, codified at 40 CFR part 63, Subparts A and RRR; and related provisions of Kentucky law at three of its aluminum production facilities. Specifically, the complaint alleges that Defendant failed to demonstrate compliance with emission standards through valid performance testing, to design and install adequate capture and collection systems, to correctly establish and monitor operating parameters, and to comply with recordkeeping and reporting requirements.

The Consent Decree would require Defendants to retest emission units using model test protocols, adopt new monitoring practices, correct deficiencies in recordkeeping and reporting documents, shut down certain emission units, and apply for new operating permits at its facilities. The Consent Decree would also provide for an $80,000 civil penalty, with $50,000 paid to the United States and $30,000 paid to the Commonwealth of Kentucky, based on a limited ability to pay as determined by the United States' review of Defendant's financial information.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States et al. v. J.L. French LLC, et al., D.J. Ref. No. 90-5-2-1-08881/1.

The Consent Decree may be examined at the United States Environmental Protection Agency, Ariel Rios Building, 1200 Pennsylvania Avenue, NW., Washington, DC 20460. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $16.00 for a copy of the complete Consent Decree (25 cents per page reproduction cost), payable to the U.S. Treasury or, if by e-mail or fax, forward a check in that amount to the Consent Decree Library at the stated address.

Maureen Katz,
Assistant Section Chief, Environmental Enforcement Section, Environment and Natural Resources Division.

[FR Doc. 2011-24604 Filed 9-23-11; 8:45 am]

BILLING CODE 4410-15-P